DEPARTMENT OF ENERGY

Federal Energy Regulatory Commission

[Docket No. CP22-24-000]

Equitrans, L.P.; Notice of Schedule for the Preparation of an Environmental Assessment for the Truittsburg Well Conversion Project

On December 2, 2021, Equitrans, L.P. filed an application in Docket No. CP22-24-000 requesting a Certificate of Public Convenience and Necessity pursuant to Section 7(c) of the Natural Gas Act to construct and operate certain natural gas pipeline facilities. The proposed project is known as the Truittsburg Well Conversion Project (Project), and would convert two observation wells into injection/withdrawal (I/W) wells in the existing Truittsburg Storage Field in Clarion County, Pennsylvania.

On December 13, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA March 7, 2022

90-day Federal Authorization Decision Deadline June 5, 2022

If a schedule change becomes necessary, additional notice will be provided so that the relevant agencies are kept informed of the Project's progress.

Project Description

Equitrans is proposing to add approximately 1,119 feet of 4-inch-diameter natural gas pipeline to convert Truittsburg wells 2483 and 2484 from observation wells to I/W wells and install pigging ² valves at the wellheads and associated piping.

² A “pig” is a tool that the pipeline company inserts into and pushes through the pipeline for cleaning the pipeline, conducting internal inspections, or other purposes.

Background

On January 5, 2022, the Commission issued a Notice of Scoping Period Requesting Comments on Environmental Issues for the Proposed Truittsburg Well Conversion Project (Notice of Scoping). The Notice of Scoping was sent to affected landowners; federal, state, and local government agencies; elected officials; environmental and public interest groups; Native American tribes; other interested parties; and local libraries and newspapers. In response to the Notice of Scoping, the Commission received comments from one landowner in support of the Project. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-24), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 8, 2022.
Kimberly D. Bose,
Secretary.

[FR Doc. 2022-03094 Filed 2-11-22; 8:45 am]

BILLING CODE 6717-01-P